DEPARTMENT OF COMMERCE

National Oceanic and Atmospheric Administration

Membership of the National Oceanic and Atmospheric Administration Performance Review Board

AGENCY: National Oceanic and Atmospheric Administration (NOAA), Department of Commerce.

ACTION: Notice of Membership of NOAA Performance Review Board.

SUMMARY: In accordance with 5 U.S.C. 4314(c)(4), NOAA announces the appointment of three additional members to serve on the NOAA Performance Review Board (PRB). The NOAA PRB is responsible for reviewing performance appraisals and ratings of Senior Executive Service (SES) members and making written recommendations to the appointing authority on SES retention and compensation matters, including performance-based pay adjustments, awarding of bonuses and reviewing recommendations for potential Presidential Rank Award nominees, and SES recertification. The appointment of members to the NOAA PRB will be for a period of 24 months.

EFFECTIVE DATE: The effective date of service of the three additional appointees to the NOAA Performance Review Board is April 9, 2001.

FOR FURTHER INFORMATION CONTACT: David M. Belt, Executive Resources Program Manager, Human Resources Management Office, Office of Finance and Administration, NOAA, 1305 East-West Highway, Silver Spring, Maryland 20910, (301) 713-0530 (ext. 204).

SUPPLEMENTARY INFORMATION: The names and position titles of the additional members of the NOAA PRB are set forth below (all are NOAA officials):

Sonya S. Stewart, Chief Financial Officer/Chief Administrative Officer, Office of Finance and Administration

Louisa Koch, Deputy Assistant Administrator, Office of Oceanic and Atmospheric Research

Ted I. Lillestolen, Deputy Assistant Administrator for Ocean and Coastal Zone Management, National Ocean Service

Dated: March 27, 2001.
Scott B. Gudes,
Acting Under Secretary/Administrator and Deputy Under Secretary.

[FR Doc. 01-8008 Filed 3-30-01; 8:45 am]

BILLING CODE 3510-12-M